DEPARTMENT OF COMMERCE

International Trade Administration

Initiation of Antidumping and Countervailing Duty Administrative Reviews

AGENCY: Enforcement and Compliance, International Trade Administration, Department of Commerce.

SUMMARY: The Department of Commerce (the Department) has received requests to conduct administrative reviews of various antidumping and countervailing duty orders and findings with September anniversary dates. In accordance with the Department's regulations, we are initiating those administrative reviews.

DATES: Applicable November 13, 2017.

FOR FURTHER INFORMATION CONTACT: Brenda E. Waters, Office of AD/CVD Operations, Customs Liaison Unit, Enforcement and Compliance, International Trade Administration, U.S. Department of Commerce, 1401 Constitution Avenue NW., Washington, DC 20230, telephone: (202) 482-4735.

SUPPLEMENTARY INFORMATION:

Background

The Department has received timely requests, in accordance with 19 CFR 351.213(b), for administrative reviews of various antidumping and countervailing duty orders and findings with September anniversary dates.

All deadlines for the submission of various types of information, certifications, or comments or actions by the Department discussed below refer to the number of calendar days from the applicable starting time.

Notice of No Sales

If a producer or exporter named in this notice of initiation had no exports, sales, or entries during the period of review (POR), it must notify the Department within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (CBP) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.ee.g., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (e.g., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise. In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than September 30, 2018.

| Period to be reviewed
Antidumping Duty Proceedings
India: Certain Lined Paper Products, A-533-843 | 9/1/16-8/31/17
Goldenpalm Manufacturers PVT Limited
Kokuyo Riddhi Paper Products Pvt. Ltd
Lodha Offset Limited
Lotus Global Private Limited
Magic International Pvt. Ltd
Marisa International
Navneet Education Ltd
Pioneer Stationery Pvt. Ltd
PP Bafna Ventures Private Limited
SAB International
SGM Paper Products
Super Impex
India: Cold-Rolled Steel Flat Products, A-533-865 | 3/7/16-8/31/17
Anil Special Steel Industries Ltd
Bhandari Foils & Tubes Ltd
Bhiwadi Metal Rollwell Pvt Ltd
Bhushan Power & Steel Ltd
Bhushan Steel Ltd
Bhusan Steel and Strips Limited
Bhuvee Profiles & Stainless Steel Pvt Ltd
BRG & Steel Pvt
Disha Auto Components Pvt Ltd
Essar Steel Ltd
Fit-Wel Industries
Good Luck Steel Tubes Ltd
Hi-Tech Pipes Ltd
Indian Steel Corp. Ltd
IUP Jindal Metals & Alloys Ltd
Jai Corp Ltd
Jainex Ltd
Jindal Stainless Ltd
JSW Steel Limited
JSW Steel Coated Products Limited
JSW Ispat Steel Ltd
KR Steelunion Ltd
Lloyds Group
Mehta Alloys Ltd
Metalman Industries Ltd
National Steel & Agro Industries Ltd
Niko Steel Centre
POSCO India
Quality Foils (India) Pvt Ltd
Rabirun Vinimay Pvt Ltd
Rapsri Engineering Products Co Ltd
Real Strips Ltd
Rimjhim Ispat Ltd
RSAL—Ruchi Strips & Alloys Ltd
Sahu Refrigeration Industries Ltd
SAIL-Steel Authority of India Ltd
Sandvik Asia Ltd
Shah Alloys Ltd
Shresty India
Soni Ispat Ltd
Steel Corp
Steelco Gujarat Ltd
Stelco Ltd
Sunflag Iron & Steel Co Ltd
Surya Global Ltd
Swastik Pipes Ltd
Tarun International Ltd
Tata Steel Ltd
The Tinplate Co of India Ltd
Tube Products of India Ltd
Unichem Steel & Alloys Pvt Ltd
Uttam Galva Steels Ltd
Uttam Value Steels Ltd
Mexico: Certain Magnesia Carbon Bricks, A-201-837 | 9/1/16-8/31/17
RHI-Refmex SA de C.V
Vesuvius Mexico S.A. de C.V
Mexico: Heavy Walled Rectangular Welded Carbon Pipes and Tubes, A-201-847 | 3/1/16-8/31/17
Arco Metal S.A. de C.V
Forza Steel S.A. de C.V
Industrias Monterrey, S.A. de C.V
Maquilacero S.A. de C.V
Perfiles y Herrajes LM S.A. de C.V
Productos Laminados de Monterrey S.A. de C.V
PYTCO S.A. de C.V
Regiomontana de Perfiles y Tubos S.A. de C.V
Ternium S.A. de C.V
Tuberia Nacional S.A. de C.V
Tuberia Procarsa S.A. de C.V
Republic of Korea: Cold-Rolled Steel Flat Products, A-580-881 | 3/7/16-8/31/17
Ameri-Source Korea
Dongkuk Industries Co., Ltd
Dongbu Steel Co., Ltd
Dongkuk Steel Mill Co., Ltd
GS Gobal Corp
Hanawell Co., Ltd
Hankum Co., Ltd
Hyuk San Profile Co., Ltd
Hyundai Glovis Co., Ltd
Hyundai Steel Company
Kindus Inc
POSCO
Daewoo International Corporation
Samsung C&T Corp
Steel N Future
Taihan Electric Wire Co., Ltd
Uin Global Co
Republic of Korea: Heavy Walled Rectangular Welded Carbon Pipes and Tubes, A-580-880 | 3/1/16-8/31/17
Ahshin Pipe & Tube Company
Bookook Steel Co., Ltd
Dongbu Steel Co., Ltd
Dong-A Steel Company
Histeel Co., Ltd
Husteel Co., Ltd
Hyundai Steel Pipe Company
Hyundai Steel Co
Miju Steel Manufacturing Co., Ltd
NEXTEEL Co., Ltd
Sam Kang Industries Co., Ltd
SeAH Steel Corporation
Kukje Steel Co., Ltd
Yujin Steel Industry Co. Ltd
Republic of Korea: Oil Country Tubular Goods, A-580-870 | 9/1/16-8/31/17
AJU Besteel Co., Ltd
BDP International
Daewoo International Corporation
Daewoo America
Dong-A Steel Co. Ltd
Dong Yang Steel Pipe
Dongbu Incheon Steel
DSEC
Erndtebruecker Eisenwerk and Company
Hansol Metal
Husteel Co., Ltd
HYSCO
Hyundai RB
Hyundai Steel Co., Ltd
Hyundai Steel Company
ILJIN Steel Corporation
Jim And Freight Co., Ltd
Kia Steel Co. Ltd
KSP Steel Company
Kukje Steel
Kurvers
NEXTEEL Co., Ltd
POSCO Daewoo Corporation
POSCO Daewoo America
Samsung
Samsung C and T Corporation
SeAH Besteel Corporation
SeAH Steel Corporation
Steel Canada
Sumitomo Corporation
TGS Pipe
Yonghyun Base Materials
ZEECO Asia
Taiwan: Narrow Woven Ribbons with Woven Selvedge, A-583-844 | 9/1/16-8/31/17
Banduoo Ltd
Fujian Rongshu Industry Co., Ltd
Ming Wei Co., Ltd
Roung Shu Industry Corporation
Xiamen Yi-He Textile Co., Ltd
The People's Republic of China: Certain Steel Nails,⁴ A-570-909 | 8/1/16-7/31/17
The People's Republic of China: Magnesia Carbon Bricks, A-570-954 | 9/1/16-8/31/16
Fedmet Resources Corporation
Fengchi Imp. and Exp. Co., Ltd. of Haicheng City
Fengchi Mining Co., Ltd. of Haicheng City
Fengchi Refractories Co., of Haicheng City
RHI Refractories Liaoning Co., Ltd
The People's Republic of China: Freshwater Crawfish Tailmeat, A-570-848 | 9/1/16-8/31/17
China Kingdom (Beijing) Import & Export Co., Ltd
Deyan Aquatic Products and Food Co., Ltd
Hubei Nature Agriculture Industry Co., Ltd
Hubei Qianjiang Huashan Aquatic Food and Product Co., Ltd
Hubei Yuesheng Aquatic Products Co., Ltd
Jingzhou Tianhe Aquatic Products Co., Ltd
Nanjing Gemsen International Co., Ltd
Shanghai Ocean Flavor International Trading Co., Ltd
Weishan Hongda Aquatic Food Co., Ltd
Xiping Opeck Food Co., Ltd
Xuzhou Jinjiang Foodstuffs Co., Ltd
Yancheng Hi-King Agriculture Developing Co., Ltd
The People's Republic of China: New Pneumatic Off-the-Road Tires, A-570-912 | 9/1/16-8/31/17
Maxon Int'l Co., Limited
Tianjin Leviathan International Trade Co., Ltd
Weihai Zhongwei Rubber Co., Ltd
The People's Republic of China: Raw Flexible Magnets, A-570-922 | 9/1/16-8/31/17
SOM International Limited
Wenzhou Haibao Printing Co., LTD
Turkey: Oil Country Tubular Goods, A-489-816 | 9/1/16-8/31/17
Cayirova Boru San A.S
Çayirova Boru Sanayi ve Ticaret A.Ş. and Yücel Boru Ithalat-Ihracat ve Pazarlama A.Ş. (collectively Yücel)
HG Tubulars Canada Ltd
Toscelik Profil ve Sac Endustrisi A.S
Tosyali Dis Ticaret A.S
Yucelboru Ihracat, Ithalat
United Kingdom: Cold-Rolled Steel Flat Products, A-412-824 | 3/7/16-8/31/17
Caparo Precision Strip, Ltd./Liberty Performance Steels Ltd.⁵
Countervailing Duty Proceedings
India: Certain Lined Paper Products, C-533-844 | 1/1/16-12/31/16
Goldenpalm Manufacturers Pvt Limited
India: Cold-Rolled Steel Flat Products, C-533-866 | 9/16/16-12/31/16
Anil Special Steel Industries Ltd
Bhandari Foils & Tubes Ltd
Bhiwadi Metal Rollwell Pvt Ltd
Bhushan Power & Steel Ltd
Bhushan Steel Ltd
Bhusan Steel and Strips Limited
Bhuvee Profiles & Stainless Steel Pvt Ltd
BRG & Steel Pvt
Disha Auto Components Pvt Ltd
Essar Steel Ltd
Fit-Wel Industries
Good Luck Steel Tubes Ltd
Hi-Tech Pipes Ltd
Indian Steel Corp. Ltd
IUP Jindal Metals & Alloys Ltd
Jai Corp Ltd
Jainex Ltd
Jindal Stainless Ltd
JSW Steel Limited
JSW Steel Coated Products Limited
JSW Ispat Steel Ltd
KR Steelunion Ltd
Lloyds Group
Mehta Alloys Ltd
Metalman Industries Ltd
National Steel & Agro Industries Ltd
Niko Steel Centre
POSCO India
Quality Foils (India) Pvt Ltd
Rabirun Vinimay Pvt Ltd
Rapsri Engineering Products Co Ltd
Real Strips Ltd
Rimjhim Ispat Ltd
RSAL—Ruchi Strips & Alloys Ltd
Sahu Refrigeration Industries Ltd
SAIL- Steel Authority of India Ltd
Sandvik Asia Ltd
Shah Alloys Ltd
Shresty India
Soni Ispat Ltd
Steel Corp
Steelco Gujarat Ltd
Stelco Ltd
Sunflag Iron & Steel Co Ltd
Surya Global Ltd
Swastik Pipes Ltd
Tarun International Ltd
Tata Steel Ltd
The Tinplate Co of India Ltd
Tube Products of India Ltd
Unichem Steel & Alloys Pvt Ltd
Uttam Galva Steels Ltd
Republic of Korea: Cold-Rolled Steel Flat Products, C-580-882 | 7/29/16-12/31/16
Dongbu Incheon Steel Co., Ltd
Dongkuk Industries Co., Ltd
Dongkuk Steel Mill Co., Ltd
Dongbu Steel Co., Ltd
Hyuk San Profile Co., Ltd
Hyundai Steel Co., Ltd
Hyundai Steel Company
POSCO
Taihan Electric Wire Co., Ltd
Union Steel Co., Ltd
The People's Republic of China: Magnesia Carbon Bricks, C-570-955 | 1/1/16-12/31/16
Fedmet Resources Corporation
Fengchi Imp. and Exp. Co., Ltd. of Haicheng City
Fengchi Mining Co., Ltd. of Haicheng City
Fengchi Refractories Co., of Haicheng City
RHI Refractories Liaoning Co., Ltd
The People's Republic of China: Narrow Woven Ribbons with Woven Selvedge, C-570-953 | 1/1/16-12/31/16
Yama Ribbons and Bows Co., Ltd
The People's Republic of China: New Pneumatic Off-the-Road Tires, C-570-913 | 1/1/16-12/31/16
Techking Tires Limited
Tianjin Leviathan International Trade Co., Ltd
Shandong Huitong Tyre Co., Ltd
The People's Republic of China: Raw Flexible Magnets, C-570-923 | 1/1/16-12/31/16
SOM International Limited
Wenzhou Haibao Printing Co., LTD
Turkey: Heavy Walled Rectangular Welded Carbon Steel Pipes and Tubes, C-489-825 | 12/28/15-4/25/16 9/12/16-12/31/16
Ozdemir Boru Profil San. Ve Tic. Ltd. Sti
Turkey: Oil Country Tubular Goods,⁶ C-489-817 | 1/1/16-12/31/16
Borusan Mannesmann Boru Sanayi ve Ticaret A.S
Borusan Istikbal Ticaret
Cayirova Boru San A.S
Cayirova Boru Sanayi ve Ticaret A.S
HG Tubulars Canada Ltd
Yucel Boru Ihracat ve Pazarlama A.S
Yucelboru Ihracat, Ithalat
Turkey: Oil Country Tubular Goods, C-489-817 | 1/1/16-12/31/16
Borusan Mannesmann Boru Sanayi ve Ticaret A.S
Borusan Istikbal Ticaret
Cayirova Boru San A.S
Cayirova Boru Sanayi ve Ticaret A.S
HG Tubulars Canada Ltd
Tosyali Dis Ticaret A.S
Yucel Boru Ihracat ve Pazarlama A.S
Yucelboru Ihracat, Ithalat

Suspension Agreements

None.

⁴ In the initiation that published on October 16, 2017 (82 FR 48051), the Department incorrectly identified that an administrative review was initiated on the antidumping duty order of Certain Steel Nails from the PRC for Shanxi Hairut Trade Co. Ltd. The Department is now correcting that notice: The Department is initiating administrative reviews on the antidumping duty order of Certain Steel Nails from the PRC for the following companies: (1) Shanxi Hairui Trade Co., Ltd.; and (2) Qingdao D&L Group Ltd.

⁵ We have previously determined that Liberty Performance Steels Ltd. is the successor-in-interest to Caparo Precision Strip, Ltd.

⁶ The Department also received a request for review of Tosyali Dis Ticaret A.S.. However, this company was excluded from the CVD order as a result of litigation. See Oil Country Tubular Goods from the Republic of Turkey: Amendment of Countervailing Duty Order, 82 FR 46483 (October 26, 2017).

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in the Department's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

The Department's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁷ Parties are hereby reminded that revised certification requirements are in effect for company/government officials as well as their representatives. All segments of any antidumping duty or countervailing duty proceedings initiated on or after August 16, 2013, should use the formats for the revised certifications provided at the end of the Final Rule.⁸ The Department intends to reject factual submissions in any proceeding segments if the submitting party does not comply with applicable revised certification requirements.

⁷ See section 782(b) of the Act.

⁸ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: November 3, 2017.
James Maeder,
Senior Director perfoming the duties of Deputy Assistant Secretary for Antidumping and Countervailing Duty Operations.

[FR Doc. 2017-24517 Filed 11-9-17; 8:45 am]

BILLING CODE P